DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Steel Import License.

Agency Form Number: N/A.

OMB Number: None.

Type of Request: Regular Submission.

Burden: 166,667 hours.

Number of Respondents: 400.

Avg. Hours Per Response: 10 minutes.

Needs and Uses: On March 5, 2002, the President announced temporary safeguards for the steel industry. As part of those safeguards, the President mandated that the Commerce Department and the Secretary of the Treasury institute an import licensing system to facilitate the monitoring of certain steel imports. The Import License information is necessary for the U.S. Government to assess import trends of covered products, especially covered products imported from countries excluded from the President's safeguard provisions. In order to monitor steel imports and to effectively implement the safeguards cited in the President's announcement, the Department of Commerce must collect and provide timely aggregated summaries about imports of certain steel products, especially from the countries excluded from the remedy. The Steel Import License proposed by the Import Administration of the Department of Commerce will be the tool used to collect the necessary information. The U.S. Trade Representative (USTR) will use the information to track increases in imports from excluded countries. If a surge is noted, USTR will initiate consultations with the country increasing its steel exports to the U.S. and discuss ways the country could reduce this steel trade to historical levels.

Affected Public: Businesses or other for-profits.

Frequency: On occasion.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6608, 14th and Constitution, NW., Washington, DC 20230 or via internet at MClayton@doc.gov.

Written comments and recommendations for the proposed information collection should be sent to David Rostker, OMB Desk Officer, Room 10202, New Executive Office Building, Washington, DC 20503 within 30 days of the publication of this notice in the Federal Register.

Dated: August 20, 2002.
Madeleine Clayton,
Departmental Paperwork Clearance Officer, Office of the Chief Information Officer

[FR Doc. 02-21602 Filed 8-23-02; 8:45 am]

BILLING CODE 3510-DS-P